DEPARTMENT OF AGRICULTURE

Agricultural Marketing Service

[Doc. No. AMS-LS-09-0008]

Soybean Promotion, Research, and Information Program: Opportunity To Request a Referendum

AGENCY: Agricultural Marketing Service, USDA.

ACTION: Notice.

SUMMARY: The Agricultural Marketing Service (AMS) announces that soybean producers may request a referendum to determine if producers want a referendum on the Soybean Promotion and Research Order (Order), as authorized under the Soybean Promotion, Research, and Consumer Information Act (Act). If at least 10 percent (not in excess of one-fifth of which may be producers in any one State) of the 589,182 eligible producers, as determined by the Department of Agriculture (USDA), participate in the Request for Referendum, a referendum will be held within 1 year from that determination. If results of the Request for Referendum indicate that a referendum is not supported, a referendum would not be conducted. The results of the Request for Referendum will be published in a Notice in the Federal Register.

DATES: Soybean producers may request a referendum during a 4-week period beginning on May 4, 2009, and ending May 29, 2009. To be eligible to participate in the Request for Referendum, producers must certify that they or the producer entity they are authorized to represent paid an assessment at any time between January 1, 2007, and December 31, 2008.

Form LS-51-1, Soybean Promotion and Research Order Request for Referendum, may be obtained by mail, fax, or in person from the Farm Service Agency (FSA) county offices from May 4, 2009 to May 29, 2009. Form LS-51-1 may also be obtained via the Internet at http://www.ams.usda.gov/lsmarketingprograms during the same time period. Completed forms and supporting documentation must be returned to the appropriate county FSA office by fax or in person no later than close of business May 29, 2009; or if returned by mail, must be postmarked by midnight May 29, 2009, and received in the county FSA office by close of business on June 5, 2009.

FOR FURTHER INFORMATION CONTACT: Kenneth R. Payne, Chief, Marketing Programs Branch, Livestock and Seed Program, AMS, USDA, Room 2628-S, STOP 0251, 1400 Independence Avenue, SW., Washington, DC 20250-0251; Telephone 202/720-1115; Fax 202/720-1125; or e-mail to Kenneth.Payne@ams.usda.gov or Rick Pinkston, Field Operations Staff, FSA, USDA, at Telephone 202/720-1857, Fax 202/720-1096, or by e-mail at Rick.Pinkston@wdc.usda.gov.

SUPPLEMENTARY INFORMATION: In accordance with the Act (7 U.S.C. 6301-6311), this Notice announces the dates when the Request for Referendum will be conducted and the place where soybean producers may request a referendum on the Order. The Act provides that the Secretary, 5 years after the conduct of the initial referendum and every 5 years thereafter, shall give soybean producers an opportunity to request a referendum on the Order. The initial referendum was held in February 1994 and the results were announced on April 1, 1994. During the initial referendum, 85,606 valid ballots were cast, with 46,060 (53.8 percent) in favor of continuing the Order and the remaining 39,546 votes (46.2 percent) were against continuing the Order. The Act required approval by a simple majority for the Order to continue.

The most recent opportunity for producers to request a referendum on the Order was in May 2004. During that period, 3,206 producers completed valid requests—short of the 66,388 required to trigger a referendum. On July 13, 2004, the USDA announced the results of the Request for Referendum and that the requisite number of producers had not requested that a referendum be conducted.

On March 23, 2004, USDA published in the Federal Register a final rule (69 FR 13458) that set forth procedures for conducting a Request for Referendum. This rule amended the procedures for soybean producers to request a referendum on the Order, including definitions, provisions for supervising the process for requesting a referendum, eligibility, certification procedures for requesting the required form, where the Request for Referendum will be conducted, counting and reporting results, and disposition of the forms and records. These procedures will apply to this Request for Referendum period and can be found in the regulations, available at http://www.ams.usda.gov/lsmarketingprograms or by contacting our office at the address listed above. Since the Request for Referendum will be conducted at the county FSA offices, FSA employees will assist AMS by confirming eligibility, counting requests, and reporting results.

Individual producers and other producer entities will be provided the opportunity to request a referendum at the county FSA office where FSA maintains and processes the producer's administrative farm records. For the producer not participating in FSA programs, the opportunity to request a referendum will be provided at the county FSA officer serving the county where the producer owns or rents land.

Eligibility

To be eligible to participate, producers must certify that they or the entity they are authorized to represent paid an assessment at some time between January 1, 2007, and December 31, 2008. They must complete form LS 51-1, Soybean Promotion and Research Order Request for Referendum, in person, by mail, or by facsimile from May 4, 2009, through May 29, 2009. Individual producers and other producer entities would request a referendum at the county FSA office where FSA maintains and processes the producer's, corporation's, or other entity's administrative farm records. For the producer, corporation, or other entity not participating in FSA programs, the opportunity to request a referendum would be provided at the county FSA office serving the county where the producer, corporation, or other entity owns or rents land. Form LS 51-1 may also be obtained via the Internet at http://www.ams.usda.gov/lsmarketingprograms. If obtained by the Internet, Form LS 51-1 must be completed and returned with the supporting documentation to the county FSA office where FSA maintains and processes the producer's, corporation's, or other entity's administrative farm records. For the producer, corporation, or other entity not participating in FSA programs, the opportunity to request a referendum would be provided at the county FSA office serving the county where the producer, corporation, or other entity owns or rents land.

Form LS 51-1 and accompanying documentation may be returned in person, by mail, or facsimile to the appropriate county FSA office. Forms returned in person or by facsimile must be received in the appropriate county office prior to the close of business on May 29, 2009. If returned by mail, Form LS 51-1 and accompanying documentation must be postmarked no later than midnight of May 29, 2009, and received in the county FSA office by close of business on June 5, 2009.

The purpose of the Request for Referendum is to determine whether eligible producers favor the conduct of a referendum on the Order. Participation in the Request for Referendum is not mandatory. Producers should participate only if they wish to request a referendum on the program.

In accordance with the Paperwork Reduction Act of 1995 [44 U.S.C. 3501 et seq.], the information collection requirements made in connection with the Request for Referendum have been approved by the Office of Management and Budget (OMB) and assigned OMB control number 0581-0093.

Authority: 7 U.S.C. 6301-6311.

Dated: February 26, 2009.
Robert C. Keeney,
Acting Associate Administrator, Agricultural Marketing Service.

[FR Doc. E9-4592 Filed 3-3-09; 8:45 am]

BILLING CODE 3410-02-P